FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Hazard Mapping Division, Federal Emergency Management Agency, 500 C Street, SW., Washington, DC 20472, (202) 646-3461, or (email) matt.miller@fema.gov.

SUPPLEMENTARY INFORMATION: The Federal Emergency Management Agency makes the final determinations listed below of modified base flood elevations for each community listed. These modified elevations have been published in newspapers of local circulation and ninety (90) days have elapsed since that publication. The Acting Executive Associate Director has resolved any appeals resulting from this notification.

The modified base flood elevations are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act

This rule is categorically excluded from the requirements of 44 CFR Part 10, Environmental Consideration. No environmental impact assessment has been prepared.

Regulatory Flexibility Act

The Acting Executive Associate Director, Mitigation Directorate, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Illinois:
Cook (FEMA Docket No. D-7503) | Unincorporated Areas | August 3, 2000, August 10, 2000, Daily Southtown | Mr. John H. Stroger, President of the Cook County, Board of Commissioners, 118 North Clark Street, Room 537, Chicago, Illinois 60602 | November 7, 2000 | 170054 F
Kane (FEMA Docket No. D-7503) | City of Geneva | August 8, 2000, August 15, 2000, Kane County Chronicle | The Honorable Thomas Coughlin, Mayor of the City of Geneva, 22 South First Street, Geneva, Illinois 60134 | November 13, 2000 | 170325 B
Madison (FEMA Docket No. D-7309) | Unincorporated Areas | January 7, 2000, January 14, 2000, The Intelligencer | Mr. Rudolph J. Papa, Madison County Board Chairman, Madison County Administration Building, 157 North Main Street, Suite 165, Edwardsville, Illinois 62025-1964 | December 28, 1999 | 170436 D
St. Clair (FEMA Docket No. D-7509) | City of Mascoutah | February 15, 2001, February 22, 2001, Belleville News-Democrat | The Honorable Gerald Daugherty, Mayor of the City of Mascoutah, 3 West Main Street, Mascoutah, Illinois 62258 | May 24, 2001 | 170630
Cook (FEMA Docket No. D-7503) | Village of Orland Park | August 3, 2000, August 10, 2000, Daily Southtown | The Honorable Daniel J. McLaughlin, Mayor of the Village of Orland Park, 14700 South Ravinier Avenue, Orland Park, Illinois 60462 | November 7, 2000 | 170140 F
Will (FEMA Docket No. D-7505) | Village of Plainfield | October 25, 2000, November 1, 2000, The Enterprise | Mr. Richard Rock, Village of Plainfield President, 530 West Lockport Street, Suite 206, Plainfield, Illinois 60544 | October 17, 2000 | 170771 E
Indiana: Allen (FEMA Docket No. D-7503) | City of Fort Wayne | July 12, 2000, July 19, 2000, The Journal Gazette | The Honorable Graham Richard, Mayor of the City of Fort Wayne, 1 Main Street, Room 900, Fort Wayne, Indiana 46802-1804 | July 3, 2000 | 180003 D
Michigan:
Macomb (FEMA Docket No. D-7309) | Township of Macomb | January 4, 2000, January 11, 2000, The Macomb Daily | Mr. John D. Brennan, Macomb Township Supervisor, 19925 Twenty-Three Mile Road, Macomb, Michigan 48042 | December 28, 1999 | 260445 B
Macomb (FEMA Docket No. D-7507) | City of Sterling Heights | June 14, 2000, June 21, 2000, The Macomb Daily | The Honorable Richard J. Notte, Mayor of the City of Sterling Heights, 40555 Utica Road, P.O. Box 8009, Sterling Heights, Michigan 48311 | September 5, 2000 | 260128 F
Ohio: Licking (FEMA Docket No. D-7509) | City of Newark | June 5, 2000, June 12, 2000, The Advocate | The Honorable Frank L. Stare III, Mayor of the City of Newark, 40 West Main Street, Newark, Ohio 43055 | September 11, 2000 | 390335 F

(Catalog of Federal Domestic Assistance No. 83.100, “Flood Insurance.”)
Robert F. Shea,
Acting Administrator, Federal Insurance and Mitigation Administration.

[FR Doc. 01-24347 Filed 9-27-01; 8:45 am]

BILLING CODE 6718-04-P